OFFICE OF THE UNITED STATES TRADE REPRESENTATIVE

Generalized System of Preferences (GSP): Change in Hearing Date for the 2011 Annual GSP Product Review

AGENCY: Office of the United States Trade Representative.

ACTION: Notice of change to hearing date and due date for post-hearing comments.

SUMMARY: The date of the hearing for the 2011 Annual GSP Product Review is changed to Thursday, March 29, 2012. Post-hearing comments are due Monday, April 16, 2012.

SUPPLEMENTARY INFORMATION: On February 21, 2012, a notice was published in the Federal Register (77 FR 10034) announcing, inter alia, that the hearing for the 2011 Annual GSP Product Review was scheduled for March 20, 2012 and post-hearing comments were due April 10, 2012. This notice changes the time and date of that hearing to 1 p.m., Thursday, March 29, 2012 and the due date for post-hearing comments to 5 p.m., Monday, April 16, 2012. The hearing will cover only the petitions for new products and CNL waivers that have been previously submitted and accepted for review in the 2011 GSP Annual Review. (See 76 FR 67531 and 77 FR 10034.)

FOR FURTHER INFORMATION CONTACT: Tameka Cooper, GSP Program, Office of the United States Trade Representative, 600 17th Street NW., Washington, DC 20508. The telephone number is (202) 395-6971; the fax number is (202) 395-9674, and the email address is Tameka_Cooper@ustr.eop.gov.

William D. Jackson,
Deputy Assistant U.S. Trade Representative for the Generalized System of Preferences and Chair of the GSP Subcommittee of the Trade Policy Staff Committee, Office of the U.S. Trade Representative.

[FR Doc. 2012-6454 Filed 3-15-12; 8:45 am]

BILLING CODE 3190-W2-P